DEPARTMENT OF TRANSPORTATION

Pipeline and Hazardous Materials Safety Administration

Hazardous Materials-Automated Cargo Communication for Efficient and Safe Shipments HM-ACCESS) Initiative; Public Meeting

AGENCY: Pipeline and Hazardous Materials Safety Administration (PHMSA), Department of Transportation.

ACTION: Notice of public meeting.

SUMMARY: This notice is to advise interested persons that PHMSA will conduct a public meeting to receive input and guidance for the upcoming Proof-of-Concept Study on the use of electronic data sharing in lieu of paper hazardous materials shipping documents.

DATES: Tuesday, October 13, 2009 9 a.m.-3:30 p.m. and Wednesday October 14, 2009 9 a.m.-3:30 p.m.

ADDRESSES: The meeting will be held at the DOT Headquarters, West Building, 1200 New Jersey Avenue, SE., Washington, DC 20590.

Notification: Persons planning to attend should send an e-mail to ryan.paguet@dot.gov including their name and contact information (company/address/telephone).

Conference Call Capability/Live Meeting Information: Due to the nature and length of the meeting, remote access/call-in capability will not be provided.

FOR FURTHER INFORMATION CONTACT: Mr. Ryan Paquet, P.G., Assistant Director, Office of International Standards, Office of Hazardous Materials Safety, Department of Transportation, Washington, DC 20590; (202) 366-0656.

SUPPLEMENTARY INFORMATION: The primary purpose of this public meeting will be to discuss the forthcoming HM-ACCESS Proof of Concept Study and specify requirements to be included in the Study's statement of work. In holding this public meeting, PHMSA seeks to receive feedback from a wide audience, representing myriad portions of the HM industry, including HM shippers, transporters, freight forwarders, emergency responders, other government agencies, technology providers, etc.

PHMSA's HM-ACCESS initiative aims to identify and eliminate barriers to the use of paperless tracking and hazard communications technologies, thereby (1) improving the availability and accuracy of hazard information; (2) improving the speed by which information is available to emergency responders when incidents occur; (3) and allowing U.S. companies to compete more effectively in the global economy by using the best tools available.

Spurred by competitive demands, just-in-time delivery requirements, and the globalization of supply chains, the transportation and logistics industries have embraced modern communication technologies; yet hazardous materials transport remains in a world of paper. The HM sector has harnessed many of the same technologies for streamlining commercial interchange, but information about shipments and packages is conveyed by markings on the package, placards on the vehicle, and shipping papers. Paper-based communication is slow, limits the information available, and is fraught with the potential for error. Inefficiencies and errors in the handling of hazardous materials produce increased risk throughout the transport chain due to increased storage time, mishandling, and ineffective or inaccurate hazard communication. Moreover, paper-based communication may be least effective at the very time when hazard communication is most critical—in the immediate aftermath of a transportation incident.

We expect the integration of electronic transfer of shipping information to be generational. A number of hazardous materials carriers, vessel, rail, and air transport organizations have stated that they are ready to begin utilizing electronic shipping paper technology, subject only to regulatory authorization. In the highway mode, the larger, technologically-advanced companies may be prepared to implement electronic systems, but widespread use among the industry is a longer-term proposition. In any case, however, no part of the HM transportation sector can transition to new hazard communication systems without ensuring that emergency response officials are prepared and equipped to receive the hazard information at least as quickly and reliably as under the current system.

Discussion points include:

1. What are shipping papers used for?

2. What information from a shipping paper should be immediately conveyed to emergency responders in the event of an incident?

3. What work has been/is being done on standardizing shipping paper information?

4. When electronic shipping papers are used, how is required information shared with emergency responders (professional, volunteer, urban, rural, etc.)? How is it shared with compliance inspectors/officers?

5. What benefits will electronic shipping papers have for companies shipping HM? HM transporters? Freight forwarders? Emergency responders? Other government agencies?

6. What challenges will electronic shipping papers create for companies shipping HM? HM transporters? Freight forwarders? Emergency responders? Other government agencies?

7. What existing efforts (government or private) are related to HM-ACCESS? Can these efforts be coordinated?

For more information on the HM-ACCESS and to check for updates on information related to this public meeting visit PHMSA's HM-ACCESS Web site at http://hazmat.dot.gov/HM-ACCESS/index.html.

R. Ryan Posten,
Acting Associate Administrator for Hazardous Materials Safety.

[FR Doc. E9-21415 Filed 9-4-09; 8:45 am]

BILLING CODE 4910-60-M